DEPARTMENT OF VETERANS AFFAIRS

38 CFR Part 21

RIN 2900-AJ90

Miscellaneous Montgomery GI Bill Eligibility and Entitlement Issues; Correction

AGENCY: Department of Veterans Affairs.

ACTION: Final rule; technical corrections.

SUMMARY: In a document published in the Federal Register on November 9, 2000 (65 FR 67265), we amended the regulations concerning eligibility for and entitlement to educational assistance under the Montgomery GI Bill—Active Duty (MGIB). This document makes technical corrections to eliminate duplicate numbering of paragraphs and to correct typographical errors.

DATES: Effective Date: This final rule is effective December 21, 2000.

FOR FURTHER INFORMATION CONTACT: William G. Susling, Jr., Assistant Director for Policy and Program Development (225), Veterans Benefits Administration, Department of Veterans Affairs, (202) 273-7187.

SUPPLEMENTARY INFORMATION: This document merely makes technical corrections. Accordingly, there is a basis for dispensing with prior notice-and-comment and a delayed effective date under 5 U.S.C. 552 and 553.

The Catalog of Federal Domestic Assistance number for the program affected by this final rule is 64.124.

List of Subjects in 38 CFR Part 21

Administrative practice and procedure, Armed forces, Civil rights, Claims, Colleges and universities, Conflict of interests, Defense Department, Education, Employment, Grant programs-education, Grant programs-veterans, Health care, Loan programs-education, Loan programs-veterans, Manpower training programs, Reporting and recordkeeping requirements, Schools, Travel and transportation expenses, Veterans, Vocational education, Vocational rehabilitation.

Approved: December 15, 2000.
Thomas O. Gessel,
Director, Office of Regulations Management.

In rule FR Doc. 00-28702 published on November 9, 2000 (65 FR 67265), make the following corrections:

§ 21.7042 [Corrected]

1. On page 67266, in the second column, correct amendatory instruction 3.E. concerning § 21.7042 by removing “(10)” and adding, in its place, “(11)” and by removing “(9)” and adding, in its place, “(10)”.

2. On the same page, in the same column, in § 21.7042, in the introductory text of paragraph (b)(2) and in the paragraph number of the paragraph added by amendatory instruction 3.E., remove “(10)” and add, in its place, “(11)”.

§ 21.7044 [Corrected]

3. On the same page, in the third column, correct amendatory instruction 4.D. concerning § 21.7044 by removing “paragraph (d)” and adding, in its place, “Paragraph (d)” and by removing “paragraph (c)” and adding, in its place, “Paragraph (c)”.

[FR Doc. 00-32599 Filed 12-20-00; 8:45 am]

BILLING CODE 8320-01-P